INTERNATIONAL TRADE COMMISSION

[Investigation Nos. 731-TA-457-A-D (Third Review)]

Heavy Forged Hand Tools From China

Determinations

On the basis of the record ¹ developed in the subject five-year reviews, the United States International Trade Commission (Commission) determines, pursuant to section 751(c) of the Tariff Act of 1930 (19 U.S.C. 1675(c)), that revocation of the antidumping duty orders on heavy forged hand tools from China would be likely to lead to continuation or recurrence of material injury to industries in the United States within a reasonably foreseeable time.

¹ The record is defined in sec. 207.2(f) of the Commission's Rules of Practice and Procedure (19 CFR 207.2(f)).

Background

The Commission instituted these reviews on January 3, 2011 (76 F.R. 168) and determined on April 8, 2011 that it would conduct expedited reviews (76 FR 31631, June 1, 2011).

The Commission transmitted its determinations in these reviews to the Secretary of Commerce on August 10, 2011. The views of the Commission are contained in USITC Publication 4250 (August 2011), entitled Heavy Forged Hand Tools From China: Investigation Nos. 731-TA-457-A-D (Third Review).

Issued: August 10, 2011.
By order of the Commission.
William R. Bishop,
Acting Secretary to the Commission.

[FR Doc. 2011-20731 Filed 8-15-11; 8:45 am]

BILLING CODE P